INTERNATIONAL TRADE COMMISSION

[Inv. Nos. TA-131-29 and TA-2104-12]

U.S.-Thailand Free Trade Agreement: Advice Concerning the Probable Economic Effect of Providing Duty-Free Treatment for Imports

AGENCY: United States International Trade Commission.

ACTION: Revised hearing date and schedule.

EFFECTIVE DATE: March 18, 2004.

SUMMARY: The public hearing on this matter, scheduled for April 20, 2004, has been rescheduled to May 4, 2004. The public hearing will be held at the United States International Trade Commission Building, 500 E Street, SW., Washington, DC, at 9:30 a.m. on May 4, 2004. Requests to appear at the public hearing should be filed with the Secretary, no later than 5:15 p.m., April 16, 2004, in accordance with the requirements in the “Submissions” section below. Any prehearing briefs or statements should be filed no later than 5:15 p.m., April 20, 2004; the deadline for filing post-hearing briefs or statements is 5:15 p.m., May 11, 2004. Notice of institution of the investigation and an earlier scheduled hearing date were published in the Federal Register March 9, 2004 (69 FR 11042).

FOR FURTHER INFORMATION CONTACT: Information specific to these investigations may be obtained from Tracy Quilter (202-205-3437; tracy.quilter@usitc.gov) or Falan Yinug (202-205-2160; falan.yinug@usitc.gov), Office of Industries, United States International Trade Commission, Washington, DC, 20436. For information on the legal aspects of these investigations, contact William Gearhart of the Office of the General Counsel (202-205-3091; william.gearhart@usitc.gov). General information concerning the Commission may also be obtained by accessing its Internet server (http://www.usitc.gov).

Submissions: All written submissions including requests to appear at the hearing, statements, and briefs should be addressed to the Secretary, United States International Trade Commission, 500 E Street, SW., Washington, DC 20436. All written submissions must conform with the provisions of section 201.8 of the Commission's Rules of Practice and Procedure (19 CFR 201.8); any submissions that contain confidential business information must also conform with the requirements of section 201.6 of the Commission's Rules of Practice and Procedure (19 CFR 201.6). Section 201.8 of the rules require that a signed original (or a copy designated as an original) and fourteen (14) copies of each document be filed. In the event that confidential treatment of the document is requested, at least four (4) additional copies must be filed, in which the confidential information must be deleted. Section 201.6 of the rules requires that the cover of the document and the individual pages be clearly marked as to whether they are the “confidential” or “nonconfidential” version, and that the confidential business information be clearly identified by means of brackets.

All written submissions, except for confidential business information, will be made available for inspection by interested parties. The Commission may include confidential business information submitted in the course of these investigations in the report it sends to the USTR. However, should the Commission publish a public version of this report, such confidential business information will not be published in a manner that would reveal the operations of the firm supplying the information.

The Commission's rules do not authorize filing submissions with the Secretary by facsimile or electronic means, except to the extent permitted by section 201.8 of the Commission's Rules of Practice and Procedure (19 CFR 201.8) (see Handbook for Electronic Filing Procedures, ftp://ftp.usitc.gov/pub/reports/electronic_filing_handbook.pdf). Persons with questions regarding electronic filing should contact the Secretary (202-205-2000 or edis@usitc.gov).

The public record for these investigations may be viewed on the Commission's electronic docket (EDIS) at http://edis.usitc.gov. Hearing-impaired individuals are advised that information on this matter can be obtained by contacting our TDD terminal on (202) 205-1810. Persons with mobility impairments who will need special assistance in gaining access to the Commission should contact the Secretary at 202-205-2000.

List of Subjects

Thailand, tariffs, and imports.

By order of the Commission.
Issued: March 18, 2004.
Marilyn R. Abbott,
Secretary to the Commission.

[FR Doc. 04-6554 Filed 3-23-04; 8:45 am]

BILLING CODE 7020-02-P